NATIONAL AERONAUTICS AND SPACE ADMINISTRATION

[Notice: (21-002)]

Notice of Intent To Grant a Partially Exclusive License

AGENCY: National Aeronautics and Space Administration.

ACTION: Notice of intent to grant partially exclusive patent license.

SUMMARY: NASA hereby gives notice of its intent to grant a partially exclusive patent license in the United States to practice the inventions described and claimed in U.S. Patent No. 7,075,295 B2 for an invention titled “Magnetic Field Response Sensor for Conductive Media,” NASA Case Number LAR-16571-1; U.S. Patent No. 7,589,525 B2 for an invention titled “Magnetic Field Response Sensor for Conductive Media,” NASA Case Number LAR-16571-2; U.S. Patent No. 7,759,932 B2 for an invention titled “Magnetic Field Response Sensor for Conductive Media,” NASA Case Number LAR-16571-3; U.S. Patent No. 7,086,593 B2 for an invention titled “Magnetic Field Response Measurement Acquisition System,” NASA Case Number LAR-16908-1; U.S. Patent No. 7,047,807 B2 for an invention titled “Flexible Framework for Capacitive Sensing,” NASA Case Number LAR-16974-1; U.S. Patent No. 7,159,774 B2 for an invention titled “Magnetic Field Response Measurement Acquisition System,” NASA Case Number LAR-17280-1; U.S. Patent No. 8,430,327 B2 for an invention titled “Wireless Sensing System Using Open-Circuit, Electrically-Conductive Spiral-Trace Sensor,” NASA Case Number LAR-17294-1; U.S. Patent No. 8,673,649 B2 for an invention titled “Wireless Chemical Sensor and Sensing Method for Use Therewith,” NASA Case Number LAR-17579-1; U.S. Patent No. 9,329,149 B2 for an invention titled “Wireless Chemical Sensor and Sensing Method for Use Therewith,” NASA Case Number LAR-17579-2; U.S. Patent No. 9,733,203 B2 for an invention titled “Wireless Chemical Sensing Method,” NASA Case Number LAR-17579-3; U.S. Patent No. 10,031,031 B2 for an invention titled “Wireless Temperature Sensing Method Using No Electrical Connections,” NASA Case Number LAR-17747-1-CON; U.S. Patent No. 10,605,673 B2 for an invention titled “Wireless Temperature Sensor Having No Electrical Connections,” NASA Case Number LAR-17747-2-CON; U.S. Patent No. 10,180,341 B2 for an invention titled “Multi-Layer Wireless Sensor Construct for Use at Electrically- Conductive Material Surfaces,” NASA Case Number LAR-18399-1; and U.S. Patent Application No. 10,193,228 B2 for an invention titled “Antenna for Far Field Transceiving,” NASA Case Number LAR-18400-1 to Aquatherm LP, having its principal place of business in Lindon, UT. The fields of use may be limited to polypropylene and plastic containers and pipes, and associated fittings and joints, within residential structures, and including but not limited to the non-destructive evaluation of the aforementioned containers and pipes and the detection of conditions and states of the contents therein, and/or similar field(s) of use thereto. NASA has not yet made a determination to grant the requested license and may deny the requested license even if no objections are submitted within the comment period.

DATES: The prospective partially exclusive license may be granted unless NASA receives written objections including evidence and argument, no later than January 29, 2021 that establish that the grant of the license would not be consistent with the requirements regarding the licensing of federally owned inventions as set forth in the Bayh-Dohl Act and implementing regulations. Competing applications completed and received by NASA no later than January 29, 2021 will also be treated as objections to the grant of the contemplated partially exclusive license. Objections submitted in response to this notice will not be made available to the public for inspection and, to the extent permitted by law, will not be released under the Freedom of Information Act.

ADDRESSES: Objections relating to the prospective license may be submitted to Patent Counsel, Office of the General Counsel, NASA Langley Research Center. Phone (757) 864-3221. Email: robin.w.edwards@nasa.gov.

FOR FURTHER INFORMATION CONTACT: Robin W. Edwards, Patent Counsel, Office of the General Counsel, NASA Langley Research Center. Phone (757) 864-3221. Email: robin.w.edwards@nasa.gov.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective partially exclusive license will comply with the requirements of 35 U.S.C. 209 and 37 CFR 404.7.

Information about other NASA inventions available for licensing can be found online at http://technology.nasa.gov.

Helen M. Galus,
Agency Counsel for Intellectual Property.

[FR Doc. 2021-00611 Filed 1-13-21; 8:45 am]

BILLING CODE 7510-13-P